DEPARTMENT OF HOMELAND SECURITY

Coast Guard

33 CFR Part 165

[Docket No. USCG-2012-0730]

RIN 1625-AA00

Safety Zone; Annual Events Requiring Safety Zones in the Captain of the Port Detroit Zone

AGENCY: Coast Guard, DHS.

ACTION: Notice of enforcement of regulation.

SUMMARY: The Coast Guard will enforce the safety zone on Lake Erie in Cedar Point, Ohio, for the Revolution 3 Triathlon in Cedar Point, Ohio. This zone will be enforced from 6 a.m. until 10 a.m. on each day of September 6 and 7, 2014. This action is necessary and intended to ensure safety of life on navigable waters during the Revolution 3 Triathlon. During the aforementioned periods, the Coast Guard will enforce restrictions upon, and control movement of, vessels in the safety zone. No person or vessel may enter the safety zone while it is being enforced without permission of the Captain of the Port Detroit.

DATES: The regulations in 33 CFR 165.941 will be enforced for safety zone (a)(60) in § 165.941, from 6 a.m. until 10 a.m. on each day of September 6 and 7, 2014.

FOR FURTHER INFORMATION CONTACT: If you have questions on this document, call or email MST2 Daniel O'Leary, Prevention Department, Marine Safety Unit Toledo, 420 Madison Ave., Suite 700, Toledo, OH 43604; telephone (419) 418-6040; email daniel.s.oleary@uscg.mil.

SUPPLEMENTARY INFORMATION: The Coast Guard will enforce the Revolution 3 Triathlon safety zone listed as item (a)(60) of 33 CFR 165.941. Section 165.941 lists many annual events requiring safety zones in the Captain of the Port Detroit zone. This Revolution 3 Triathlon zone encompasses all waters and adjacent shoreline of Lake Erie located within an area that is approximately 200 yards. The area is within positions 41°29′00.04″ N 082°40′48.16″ W to 41°29′19.28″ N 082°40′38.97″ W to 41°29′02.51″ N 082°40′20.82″ W to 41°28′45.52″ N 082°40′35.75″ W then following the shoreline to the point of origin on Lake Erie during the annual Revolution 3 Triathlon from 6 a.m. until 10 a.m. on September 6 and 7, 2014.

All vessels must obtain permission from the Captain of the Port Detroit, or his or her on-scene representative to enter, move within, or exit the safety zone. Requests must be made in advance and approved by the Captain of the Port before transits will be authorized. Approvals will be granted on a case by case basis. Vessels and persons granted permission to enter the safety zone must obey all lawful orders or directions of the Captain of the Port Detroit, or his or her designated representative.

This document is issued under authority of 33 CFR 165.941, Safety Zones; Annual events requiring safety zones in the Captain of the Port Detroit zone, and 5 U.S.C. 552(a). In addition to this publication in the Federal Register, the Coast Guard will provide the maritime community with advance notification of this event via Broadcast Notice to Mariners or Local Notice to Mariners. The Captain of the Port Detroit, or his or her on-scene representative, may be contacted via VHF Channel 16.

Dated: July 3, 2014.
S. B. Lemasters,
Captain, U.S. Coast Guard, Captain of the Port Detroit.

[FR Doc. 2014-17102 Filed 7-18-14; 8:45 am]

BILLING CODE 9110-04-P